ENVIRONMENTAL PROTECTION AGENCY

[ER-FRL-9021-6]

Environmental Impact Statements; Notice of Availability

Responsible Agency: Office of Federal Activities, General Information (202) 564-7146 or http://www.epa.gov/compliance/nepa/.

Weekly receipt of Environmental Impact Statements (EISs)

Filed 06/15/2015 Through 06/19/2015

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150176, Draft, DOE, ID, Recapitalization of Infrastructure Supporting, Naval Spent Nuclear Fuel Handling (DOE/EIS-0453-D), Comment Period Ends: 08/10/2015, Contact: Erik Anderson 202-781-6057.

EIS No. 20150177, Draft, NHTSA, REG, Phase 2 Fuel Efficiency Standards for Medium- and Heavy-Duty Engines and Vehicles, Comment Period Ends: 08/31/2015, Contact: James MacIsaac 202-366-9108 EIS No. 20150178, Draft, DOE, MN, Great Northern Transmission Line Project, Comment Period Ends: 08/10/2015, Contact: Julie Ann Smith 202-586-7668.

Dated: June 23, 2015.
Dawn Roberts,
Management Analyst, NEPA Compliance Division, Office of Federal Activities.

[FR Doc. 2015-15757 Filed 6-25-15; 8:45 am]

BILLING CODE 6560-50-P